DEPARTMENT OF THE INTERIOR

Fish and Wildlife Service

Draft Environmental Assessment/Habitat Conservation Plan and Receipt of an Application for an Incidental Take Permit for the Eagle's Nest Open Space, Larimer County, CO

AGENCY: Fish and Wildlife Service, Interior.

ACTION: Notice of availability and receipt of application.

SUMMARY: This notice advises the public that Larimer County Parks and Open Lands Department (Applicant) has applied to the U.S. Fish and Wildlife Service (Service) for an incidental take permit pursuant to section 10(a)(1)(B) of the Endangered Species Act (Act) of 1973, as amended. The proposed permit would authorize the incidental take of the Preble's meadow jumping mouse (Zapus hudsonius preblei) (Preble's ), federally listed as threatened, through loss and modification of its habitat associated with construction of a trail, river access area, spring development and bridge replacement on the North Fork Cache La Poudre River in Larimer County, Colorado. The duration of the permit would be 30 years from the date of issuance.

We announce the receipt of the Applicant's incidental take permit application, which includes a combined Environmental Assessment/Habitat Conservation Plan (EA/HCP) for the Preble's at Eagle's Nest Open Space. The proposed EA/HCP is available for public review and comment. It fully describes the proposed project and the measures the Applicant would undertake to minimize and mitigate project impacts to the Preble's.

The Service requests comments on the EA/HCP and associated documents for the proposed issuance of the incidental take permit. All comments on the EA and permit application will become part of the administrative record and will be available to the public. We provide this notice pursuant to section 10(a) of the Act and the National Environmental Policy Act regulations (40 CFR 1506.6).

DATES: Written comments on the permit application and EA/HCP should be received on or before April 27, 2004 to be considered.

ADDRESSES: Comments regarding the permit application and EA/HCP should be addressed to Susan Linner, Field Supervisor, U.S. Fish and Wildlife Service, Colorado Field Office, 755 Parfet Street, Suite 361, Lakewood, Colorado 80215. Comments also may be submitted by facsimile to (303) 275-2371.

FOR FURTHER INFORMATION CONTACT: Ms. Kathleen Linder, Fish and Wildlife Biologist, Colorado Field Office, telephone (303) 275-2370.

SUPPLEMENTARY INFORMATION:

Document Availability

Individuals wishing copies of the EA/HCP and associated documents for review should immediately contact the above office. Documents also will be available for public inspection, by appointment, during normal business hours at the above address.

Background

Section 9 of the Act and Federal regulations prohibit the “take” of a species listed as endangered or threatened. Take is defined under the Act, in part, as to kill, harm, or harass a federally listed species. However, the Service may issue permits to authorize “incidental take” of listed species under limited circumstances. Incidental take is defined under the Act as take of a listed species that is incidental to, and not the purpose of, the carrying out of an otherwise lawful activity under limited circumstances. Regulations governing permits for threatened species are promulgated in 50 CFR 17.32.

Eagle's Nest Open Space is located south of Red Feather Lakes Road (CR 74), along the North Fork of the Cache La Poudre River, south of the Town of Livermore, Larimer County, Colorado. The project site is 107 hectares (264 acres), but the proposed project will directly impact a maximum of 1.4 hectares (3.4 acres) that may result in incidental take of the Preble's. Of the total amount of impacted acreage, 0.3 hectare (0.7 acre) will be temporarily disturbed and will be revegetated. An HCP has been developed as part of the preferred alternative. The proposed HCP will allow for the incidental take of the Preble's by permitting bridge replacement, spring development and construction of a multiple-use trail in an area that may be periodically used as foraging, breeding or hibernation habitat.

In addition to the Proposed Action, alternatives considered included—(a) develop the site more intensively with less avoidance of Preble's habitat, (b) no action, and (c) look for an alternative open space property. The draft EA analyzes the onsite, offsite, and cumulative impacts of the proposed project and all associated development and construction activities and mitigation activities on the Preble's, and also on other threatened or endangered species, vegetation, wildlife, wetlands, geology/soils, land use, water resources, air and water quality, and cultural resources. The Applicant, using the Service's definition of Preble's habitat, has determined that the proposed project would impact approximately 1.4 hectares (3.4 acres) of potential Preble's habitat. The mitigation will likely provide a net benefit to the Preble's mouse and other wildlife by planting additional shrubs and revegetating an old road with a native grass mix.

Only one federally listed species, the threatened Preble's, occurs on site and has the potential to be adversely affected by the project. To mitigate impacts that may result from incidental take, the HCP provides mitigation for the development of the proposed trail and associated facilities by protecting and enhancing 2.8 hectares (7.0 acres) of existing or potential Preble's habitat through reduced and managed grazing, planting native shrubs and grasses. Approximately 0.3 hectare (0.7 acre) of temporarily disturbed habitat will be reseeded with a native seed mix and planted with native shrubs where appropriate and approximately 107 hectares (264 acres) will be protected on perpetuity as open space by Larimer County as well as via a deed restriction. Measures will be taken during construction to minimize impact to the habitat, including monitoring, worker education/awareness of Preble's habitat and the restricted construction period during daylight hours and between mid-September and mid-May when Preble's is inactive. All of the proposed mitigation area is within the boundaries of the Eagle's Nest Open Space property.

This notice is provided pursuant to section 10(c) of the Act. We will evaluate the permit application, the EA/HCP, and comments submitted therein to determine whether the application meets the requirements of section 10(a) of the Act. If it is determined that those requirements are met, a permit will be issued for the incidental take of the Preble's in conjunction with the development of the proposed trail, associated facilities, river access, and ongoing management of the Eagle's Nest Open Space property. The final permit decision will be made no sooner than 60 days after the date of this notice.

Dated: January 27, 2004.
John A. Blankenship,
Regional Director, Denver, Colorado.

[FR Doc. 04-4351 Filed 2-26-04; 8:45 am]

BILLING CODE 4310-55-P